DEPARTMENT OF STATE

[Public Notice: 10040]

Global Magnitsky Human Rights Accountability Act Report

AGENCY: Department of State.

ACTION: Notice.

SUMMARY: This notice contains the text of the report, submitted by the President, that is required by the Global Magnitsky Human Rights Accountability Act.

FOR FURTHER INFORMATION CONTACT: Benjamin A. Kraut, Email: Krautb@state.gov, Phone: (202) 647-9452.

SUPPLEMENTARY INFORMATION: On April 21, 2017, the President approved the following report under the Global Magnitsky Human Rights Accountability Act (Pub. L. 114-328, Subtitle F). The text follows:

The Global Magnitsky Human Rights Accountability Act (Pub. L. 114-328, Subtitle F) (the “Act”), enacted on December 23, 2016, authorizes the President to impose financial sanctions and visa restrictions on foreign persons in response to certain human rights violations and acts of corruption.

The President submits this report to detail (1) U.S. government actions to administer the Act and (2) efforts to encourage the governments of other countries to impose sanctions that are similar to the sanctions authorized by Section 1263 of the Act.

With the passage of the Act, the United States now has a specific authority to identify and hold accountable persons responsible for gross violations of human rights and acts of significant corruption. The global reach of this authority, combined with a judicious selection of individuals and entities, will send a powerful signal that the United States continues to seek an end to impunity with respect to human rights violations and corruption. The Administration is committed to implementing the Act to support efforts to promote human rights and fight corruption. By complementing current sanctions programs and diplomatic outreach, the Act creates an additional authority to allow the Administration to respond to crises and pursue accountability, including where country-specific sanctions programs may not exist or where the declaration of a national emergency under the National Emergencies Act may not be appropriate. With the establishment of the first dedicated global human rights and corruption sanctions program, the United States is uniquely positioned to lead the international community in pursuing accountability abroad consistent with our values.

Sanctions

Although no financial sanctions were imposed under the Act during the 120 days since its enactment, the United States is actively seeking to identify persons to whom this Act may apply and collecting the necessary evidence to impose sanctions.

In addition, the Department of the Treasury has issued a number of sanctions designations related to human rights abuses and corruption under existing sanctions programs. Sanctions programs that feature one or both of these designation criteria include programs related to Belarus, Burundi, the Central African Republic, the Democratic Republic of Congo, Iran, Libya, North Korea, Russia, Somalia, South Sudan, Syria, Ukraine, Venezuela, and Zimbabwe, as well as the Sergei Magnitsky Rule of Law Accountability Act of 2012 (the “Magnitsky Act”).

Examples of Treasury Department designations issued in recent years consistent with the human rights- and corruption-related designation criteria of these programs are provided below. This is not an exhaustive list; rather, it illustrates designations that align with the Act's focus on human rights and corruption.

Andrey Konstantinovich Lugovoy: On January 9, 2017, Russian national and member of the Russian State Duma Andrey Konstantinovich Lugovoy was designated under the Magnitsky Act, which includes a provision targeting persons responsible for extrajudicial killings, torture, or other gross human rights violations committed against individuals seeking to expose illegal activity by Russian government officials. Lugovoy was responsible for the 2006 extrajudicial killing of whistleblower Alexander Litvinenko in London, with Dmitriy Kovtun (also sanctioned) acting as his agent or on his behalf. Lugovoy and Kovtun were two of five individuals designated under the Magnitsky Act on January 9, 2017.

Evariste Boshab: On December 12, 2016, Evariste Boshab was designated under E.O. 13413 (“Blocking Property of Certain Persons Contributing to the Conflict in the Democratic Republic of the Congo”), as amended by E.O. 13671 (“Taking Additional Steps to Address the National Emergency With Respect to the Conflict in the Democratic Republic of the Congo”), for engaging in actions or policies that undermine democratic processes or institutions in the Democratic Republic of the Congo (DRC). Boshab offered to pay DRC National Assembly members for their votes in favor of a bill to amend electoral law to delay elections and prolong President Joseph Kabila's term beyond its constitutional limit.

Kalev Mutondo: Also on December 12, 2016, Kalev Mutondo was designated under E.O. 13413, as amended by E.O. 13671, for engaging in actions or policies that undermine democratic processes or institutions in the DRC. Kalev supported the extrajudicial arrest and detainment of opposition members, many of whom were reportedly tortured. Kalev also directed support for President Kabila's “MP” political coalition using violent intimidation and government resources.

North Korean Ministry and Minister of People's Security: On July 6, 2016, the North Korean Ministry of People's Security was designated pursuant to E.O. 13722 (“Blocking Property of the Government of North Korea and the Workers' Party of Korea, and Prohibiting Certain Transactions With Respect to North Korea”) for having engaged in, facilitated, or been responsible for an abuse or violation of human rights by the Government of North Korea or the Workers' Party of Korea. The Ministry of People's Security operates a network of police stations and interrogation detention centers, including labor camps, throughout North Korea. During interrogations, suspects are systematically degraded, intimidated, and tortured. The Ministry of People's Security's Correctional Bureau supervises labor camps (kyohwaso) and other detention facilities, where human rights abuses occur, such as torture, execution, rape, starvation, forced labor, and lack of medical care. A Department of State report issued simultaneously with these designations cites defectors who have regularly reported that the ministry uses torture and other forms of abuse to extract confessions, including techniques involving sexual violence, hanging individuals from the ceiling for extended periods of time, prolonged periods of exposure, and severe beatings. Choe Pu Il, the Minister of People's Security, was also designated for having acted for or on behalf of the Ministry of People's Security.

Joseph Mathias Niyonzima: On December 18, 2015, Joseph Mathias Niyonzima was designated under E.O. 13712 (“Blocking Property of Certain Persons Contributing to the Situation in Burundi”) for being responsible for or complicit in or for engaging in actions or policies that threaten the peace, security, or stability of Burundi. Niyonzima supervised and provided support to elements of the Imbonerakure pro-government militia in Burundi, a group that has been linked to the arrest and torture of individuals suspected of opposing the Nkurunziza regime. He was also involved in plans to assassinate prominent opposition leaders.

Fahd Jassem al-Freij: On May 16, 2013, Syrian Minister of Defense Fahd Jassem al-Freij was designated pursuant to, among other authorities, E.O. 13572 (“Blocking Property of Certain Persons With Respect to Human Rights Abuses in Syria”) for his role in the commission of human rights abuses in Syria. During his time as Syrian Minister of Defense, the Syrian military forces wantonly and capriciously killed Syrian civilians, including through the use of summary executions and indiscriminate airstrikes against civilians. Some of these airstrikes killed civilians waiting outside of bakeries.

The examples above demonstrate the Treasury Department's history of designating persons under the human rights- and corruption-related criteria of various sanctions authorities. Such designations under existing authorities strongly complement the intent of the Act.

The individuals and entities referenced above were designated for “human rights abuses” and other broad criteria that provide significant flexibility in issuing human rights-related designations. While the human rights-related designation criterion found in the Act (i.e., gross violations of internationally recognized human rights) is narrower in focus, will actively seek to designate individuals and entities where sufficient information exists to meet the applicable evidentiary standard.

Visa Sanctions

Although no visa sanctions were imposed under the Act during the 120 days since its enactment, the Department of State is continuously reviewing available information in order to take appropriate actions with respect to visa ineligibilities. In addition, the Department of State continues to take action, as appropriate, to implement the authorities pursuant to which it can impose visa restrictions on those responsible for human rights violations and corruption, including Presidential Proclamation 7750, Presidential Proclamation 8697, and Section 7031(c) of the FY2016 State, Foreign Operations, and Related Programs Appropriations Act. In addition to those authorities, Presidential Proclamation 8693 establishes a mechanism for imposing visa restrictions on Specially Designated Nationals and Blocked Persons (SDNs) designated under certain E.O.s., as well as individuals designated otherwise for travel bans in UN Security Council Resolutions. The Department of State also continues to make visa ineligibility determinations pursuant to the Immigration and Nationality Act (INA), including Section 212(a)(3)(E)(iii), which makes individuals who have participated in acts of genocide or committed acts of torture, extrajudicial killings, and other human rights violations ineligible for visas.

Termination of Sanctions

No sanctions imposed under the Act were terminated in the 120 days since its enactment.

Efforts To Encourage Governments of Other Countries To Impose Sanctions Similar to Those Authorized by the Act

The United States is committed to encouraging other countries to impose sanctions that are similar to those provided for by the Act. The Department of State actively participates in global outreach, including the G-20 Denial of Entry Experts Network, a sub-group of the G-20 Anti-Corruption Working Group, in which countries share best practices among visa and immigration experts. Through this network, the United States has encouraged other G-20 members to establish and strengthen corruption-related visa sanctions regimes. We note that the United Kingdom recently enacted legislation similar to the Act, and we will be consulting closely with the UK government as we implement our respective laws. The Department of State also has ongoing bilateral human rights discussions with other key allies, including the European Union and its member states, Japan, the Republic of Korea, and Australia, and will be raising the possibility of their imposing sanctions similar to those authorized by this Act.

Patricia M. Haslach,
Acting Assistant Secretary of State, Bureau of Economic and Business Affairs, Department of State.

[FR Doc. 2017-12791 Filed 6-19-17; 8:45 am]

BILLING CODE 4710-AE-P